DEPARTMENT OF LABOR

Employment and Training Administration

[TA-W-53,174; TA-W-53,174A]

Sinclair Collins, Div. of Parker Hannafin Corp., Akron, Ohio, Including an Employee of Sinclair Collins, Div. of Hannafin Corporation, Located in Nashville, Tennessee; Amended Certification Regarding Eligibility To Apply for Worker Adjustment Assistance

In accordance with section 223 of the Trade Act of 1974 (19 U.S.C. 2273) the Department of Labor issued a Certification of Eligibility to Apply for Worker Adjustment Assistance on November 12, 2003, applicable to workers of Sinclair Collins, div. of Parker Hannafin Corporation, Akron, Ohio. The notice was published in the Federal Register on December 29, 2003 (68 FR 74979).

At the request of a petitioner, the Department reviewed the certification for workers of the subject firm. New information shows that a worker was separated involving an employee of the Akron, Ohio facility of Sinclair Collins, div. of Parker Hannafin Corporation located in Nashville, Tennessee. This employee provided sales, marketing, warranty issues and general support services for the production of industrial valves for tire manufacturers at the Akron, Ohio location of the subject firm.

Based on these findings, the Department is amending this certification to include an employee of the Akron, Ohio facility of Sinclair Collins, div. of Parker Hannafin Corporation, located in Nashville, Tennessee.

The intent of the Department's certification is to include all workers of Sinclair Collins, div. of Parker Hannafin Corporation, Akron, Ohio, who were adversely affected by increased imports.

The amended notice applicable to TA-W-53,174 is hereby issued as follows:

All workers of Sinclair Collins, div. of Parker Hannafin Corporation, Akron, Ohio (TA-W-53,174), including an employee of Sinclair Collins, div. of Parker Hannafin Corporation, Akron Ohio, located in Nashville, Tennessee (TA-W-53,174A), who became totally or partially separated from employment on or after October 1, 2002, through November 12, 2005, are eligible to apply for adjustment assistance under section 223 of the Trade Act of 1974.

Signed at Washington, DC, this 8th day of January, 2004.
Richard Church,
Certifying Officer, Division of Trade Adjustment Assistance.

[FR Doc. E4-135 Filed 1-27-04; 8:45 am]

BILLING CODE 4510-13-P